COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before February 27, 2017.

ADDRESSES: Comments regarding the burden estimated or any other aspect of the information collection, including suggestions for reducing the burden, may be submitted directly to the Office of Information and Regulatory Affairs (OIRA) in OMB, within 30 days of the notice's publication, by email at OIRAsubmissions@omb.eop.gov. Please identify the comments by OMB Control No. 3038-0005. Please provide the Commission with a copy of all submitted comments at the address listed below. Please refer to OMB Control No. 3038-0005, found on http://reginfo.gov. Comments may also be mailed to the Office of Information and Regulatory Affairs, Office of Management and Budget, Attention: Desk Officer for the Commodity Futures Trading Commission, 725 17th Street NW., Washington, DC 20503, and to Christopher Kirkpatrick, Secretary of the Commission, Commodity Futures Trading Commission, Three Lafayette Centre, 1155 21st Street NW., Washington, DC 20581 or by Hand Delivery/Courier at the same address; or through the Agency's Web site at http://comments.cftc.gov. Follow the instructions for submitting comments through the Web site.

A copy of the supporting statements for the collection of information discussed above may be obtained by visiting http://RegInfo.gov. All comments must be submitted in English, or if not, accompanied by an English translation. Comments will be posted as received to http://www.cftc.gov.

FOR FURTHER INFORMATION CONTACT: Christopher Cummings, Special Counsel, Division of Swap Dealer and Intermediary Oversight, Commodity Futures Trading Commission, (202) 418-6700; email: ccummings@cftc.gov, and refer to OMB Control No. 3038-0005.

SUPPLEMENTARY INFORMATION:

Title: Rules Relating to the Operations and Activities of Commodity Pool Operators and Commodity Trading Advisors and to Monthly Reporting by Futures Commission Merchants (OMB Control No. 3038-0005). This is a request for comment on amendment of a currently approved information collection.

Abstract: The CFTC has amended Regulation 4.22(d) to permit a CPO that meets certain requirements to present and compute required Annual Reports in accordance with specified accounting principles, standards or practices other than United States generally accepted accounting principles (U.S. GAAP). At the same time, the CFTC amended Regulation 4.27(c)(2) to permit a CPO that claims relief under Regulation 4.22(d) as amended to use the same alternative accounting principles, standards or practices in presenting and computing the financial information that the CPO is required to report on a quarterly basis to the CFTC in Form CPO-PQR. The instructions to Form CPO-PQR, however, specify that all financial information in the form must be presented and computed in accordance with U.S. GAAP. Accordingly, the CFTC proposed to amend the instructions to Form CPO-PQR to permit use of alternative accounting principles, standards or practices by CPOs that claim relief under Regulation 4.22(d), as amended.

With respect to the collection of information, the CFTC sought comments on whether the proposed amendment to Collection 3038-0005 is necessary for the proper performance of the functions of the CFTC, including whether the information will have a practical use, and whether the proposed amendment will increase the burden on CPOs who are required to file Form CPO-PQR. The Commission did not receive any comments on the 60-day Federal Register notice, 81 FR 85209, dated November 25, 2016.

Burden Statement: The Commission is not revising its estimate of the burden for this collection as a result of the amendment to the instructions to Form CPO-PQR because the requirements to provide financial information remains substantively unchanged. There are no capital costs or operating and maintenance costs associated with the collection.

Authority: 44 U.S.C. 3501 et seq.

Dated: January 19, 2017.
Robert N. Sidman,
Deputy Secretary of the Commission.

[FR Doc. 2017-01706 Filed 1-25-17; 8:45 am]

BILLING CODE 6351-01-P